DEPARTMENT OF DEFENSE

Department of the Army

Reissuance of Military Traffic Management Command Military Freight Rules Publication 1B as Military Freight Rules Publication 1C

AGENCY: Department of the Army, DoD.

ACTION: Notice; Request for comments.

SUMMARY: The Military Traffic Management Command (MTMC) as the Department of Defense (DOD) Traffic Manager for surface and surface inter-modal traffic management services (Defense Transportation Regulation vol. 2, pgs 201-13 through 201-14) hereby cancels Military Freight Traffic Rules Publication (MFTRP) 1B in its entirety and replaces it with the revised MFTRP 1C outlined herein, effective November 1, 2002. The purpose of this issuance is to incorporate significant changes to the Security Service rules due to recent world events, add interim changes made since the last revision, update addresses and contact information, and introduce new items to the motor carriers doing business with DOD shippers. Motor carriers and anyone interested may view the proposed MFTRP 1C on the Internet at www.mtmc.army.mil with proposed changes highlighted. After accessing the MTMC web site, interested parties should enter the “Publications” area, then “Air/Land” to find the proposed MFTRP 1C.

DATES: Comments must be submitted on or before October 4, 2002. The MFTRP 1B is cancelled and MFTRP 1C is effective with any accepted changes November 1, 2002.

ADDRESSES: Comments may be mailed to: MTMC Operations Center, ATTN: MTDC-OPCF, Room 207, 661 Sheppard Place, Fort Eustis, VA 23604-1644.

FOR FURTHER INFORMATION CONTACT: Mr. Stephen Lord at (757) 878-8547, e-mail: lords@mtmc.army.mil or Mr. Brad Bernard at (757) 878-8351, e-mail: bernardb@mtmc.army.mil.

SUPPLEMENTARY INFORMATION: The intent is to replace the entire text of the existing MFTRP 1B with the revised MFTRP 1C outlined herein. The specific changes are listed followed by either NEW or MODIFY to identify which items are new or being changed, then followed by a brief synopsis of the parts that are changed.

Items undergoing a significant change are as follows:

(1) Item 18 SpotBid—MODIFY—Sentence 7 now restricts Arms, Ammunition and Explosives (AA&E) from SpotBid.

(2) Section 2 Header—MODIFY—The ‘and’ is changed to ‘or’ e.g. Secret material or AA&E, allowing non-AA&E carriers which are qualified to offer Protective Security Service (PSS) for Secret shipments, to do so.

(3) Item 30 Constant Surveillance Service (CIS)—MODIFY—Qualified carrier representative must stay within 25 ft of vehicle; previously distance was 100 ft.

(4) Item 30 Constant Surveillance Service (CIS)—MODIFY—Carrier shall provide dual drivers if CIS shipment exceeds 500 miles.

(5) Item 31 Driver ID Requirements—MODIFY—Identification documents must be in English and document must employ tamper proof technology.

(6) Item 32 DOD Carrier Security Clearance Requirement—NEW—Effective 1 OCT 2002 carriers' personnel providing service for AA&E commodities, specifically drivers/dispatchers/key personnel etc. must have Secret clearances issued by the Defense Security Service (DSS).

(7) Item 35 Dual Driver with National Agency Check (DDN)—MODIFY—DDN no longer includes “;Exclusive Use” (EXC) as part of the service, however, shippers are still required to request EXC on the BL when DDN is required.

(8) Item 40 Protective Security Service (PSS)—MODIFY—This Item was entirely rewritten to reflect revised security requirements and changes are too numerous to identify a specific change.

(9) Item 41 Security Escort Service (SEV)/Military Escort Service (MEV)—MODIFY—Escort vehicle must employ Satellite Motor Surveillance Service (SNS) and carriers providing transportation for commodities that require SEV may use other approved/qualified carriers as escort.

(10) Item 47 Satellite Motor Surveillance Service (SNS)—MODIFY—SNS charges rolled into linehaul IAW Federal Register Notice published on April 10, 2002 (67 FR 17415).

(11) Item 48 Transloading Arms, Ammunition, Explosives—MODIFY—Security Risk Category (CAT) I & II commodities may not be transloaded. CAT III, IV, and UNCAT 1.1, 1.2, 1.3 commodities may be transloaded at DOD installations and those same commodities in dromedary boxes may be Transloaded at MTMC approved carrier terminals.

(12) Item 49 Transportation Protective Service Compatibilities—MODIFY—Corrected Table.

(13) Item 65 Astray Freight and Emergency Notification—MODIFY—Added contact information for explosive cargo emergency response guidance.

(14) Item 70 Capacity Load—MODIFY—Added sentence 3b giving guidance on billing multiple vehicle shipments.

(15) Item 85 Detention—MODIFY—Carriers may charge for delays caused by Military Escort Vehicle (MEV).

(16) Item 106 Exceptions for Exclusive Use Service—MODIFY—Deleted sentence that included Exclusive Use as part of DDN and PSS.

(17) Item 178 Protective Tarps—MODIFY—Tarps for protective service must be water and fire resistant.

(18) Item 228 Towaway Service (TOW)—MODIFY—Removes commodity restrictions from Towaway service.

(19) Item 305 AA&E Shipment Delivery—ADD/NEW—Directs carriers to provide consignee adequate intransit delivery notification and allows carriers to charge DEL (1) per hour when drivers must guard shipment and/or DEL (2) per mile for diversion when destination cannot unload or provide secureholding.

(20) Item 311 Armed Guards—NEW—MTMC approved commercial terminals that are used for in-transit holding of DOD shipments containing any quantity of arms, ammunition, and explosives must provide armed guards.

(21) Item 312 Terminal Security—NEW—No CAT I & II commodities are allowed in carrier terminals; CAT III, IV, and UNCAT 1.1, 1.2, 1.3 commodities may be in carrier terminals up to 100 hours. Removes reference to CAT I & II in terminal, also standardizes all references to Security Risk Categories/Codes.

(22) Item 328 Dromedary Boxes—MODIFY—Clarifies what is an acceptable substitute for a dromedary.

(23) Section 5 Small Package Express—NEW—Rules governing Small Package ground voluntary tender shipments under 150 pounds which do not fall within scope of other small package contracts or Blanket Purchase Agreements.

(24) Item 1000 Abbreviations—NEW—CAT = Security Risk Category and SRC = Security Risk Code.

(25) Item 1031 E-mail addresses—NEW—List all E-mail addressing in the MFTRP to include how to propose changes to MFTRPs.

(26) Item 1032 SRC to CAT cross-reference—NEW—Self-explanatory.

Regulatory Flexibility Act

This change is not considered rule making within the meaning of the Regulatory Flexibility Act, 5 U.S.C. 601-612.

Paperwork Reduction Act

The Paperwork Reduction Act, 44 U.S.C. et seq., does not apply because no information collection requirements or recordkeeping responsibilities are imposed on offerors, contractors, or members of the public.

John Piparato,
Chief, Global Distribution—Domestic.

[FR Doc. 02-19704 Filed 8-2-02; 8:45 am]

BILLING CODE 3710-08-P